DEPARTMENT OF AGRICULTURE

Agricultural Marketing Service

[Doc. No. AMS-CP-23-0025]

Request for Extension of a Currently Approved Information Collection

AGENCY: Agricultural Marketing Service, USDA.

ACTION: Notice and request for comments.

SUMMARY: In accordance with the Paperwork Reduction Act of 1995, the Agricultural Marketing Service (AMS) is requesting comments from all interested individuals and organizations on a renewal of a currently approved information collection request. This information collection is necessary to support the procurement of agricultural commodities for domestic and export food donation programs. AMS issues invitations to purchase or sell and transport commodities, as well as sample, inspect and survey, agricultural commodities at both domestic and foreign locations for use in international food donation programs on a monthly, multiple monthly, quarterly, and yearly basis. The AMS Commodity Procurement Program contracts for marine cargo discharge survey services conducted at the foreign destinations to ascertain count and condition of the commodities delivered.

DATES: Comments on this notice must be received by June 23, 2023 to be assured of consideration.

ADDRESSES: Interested persons are invited to submit comments concerning this notice by using the electronic process available at https://www.regulations.gov. Written comments may be submitted via mail to Mike Dinkel, Commodity Procurement Program, AMS/USDA, 1400 Independence Avenue SW, S-0239, Washington, DC 20250-0239. All comments should reference the document number and the date and the page number of this issue of the Federal Register. All comments received will be posted without change, including any personal information provided, at https://www.regulations.gov and will be included in the record and made available to the public.

FOR FURTHER INFORMATION CONTACT: Mike Dinkel, Branch Chief; Communication & Support Branch, Telephone: (202) 350-5946; Email: Michael.dinkel@usda.gov.

SUPPLEMENTARY INFORMATION:

Title: Discharge and Delivery Survey Summary and Rate Schedule Forms.

OMB Number: 0581-0317.

Expiration Date of Approval: June 30, 2023.

Type of Request: Extension and revision of a currently approved information collection.

Abstract: The United States donates agricultural commodities domestically and overseas for famine or other relief requirements, to combat malnutrition, and sells or donates commodities to promote economic development. AMS issues invitations to purchase or sell agricultural commodities and services for use in domestic and export programs. Vendors respond by making offers using various AMS commodity offer forms through the Web-based Supply Chain Management System (WBSCM). The AMS Commodity Procurement Program contracts for discharge survey services conducted at the foreign destinations to ascertain count and condition of the commodities shipped. The form for discharge survey services is not in WBSCM.

The renewal to the information collection request is for the respondents to submit information electronically in WBSCM for all processes with the exception of the discharge/delivery survey summary and the rates schedule. Vendors will be able to access WBSCM to see the date and time the system shows for receipt of bid, bid modification, or bid cancellation information. At bid opening date and time, the bid information is evaluated through the system. Acceptances will be sent to the successful offerors electronically. Awarded contracts will be posted to the AMS website https://www.ams.usda.gov/selling-food/solicitations and also to the WBSCM portal and https://sam.gov/content/opportunities, Contract Opportunities. The discharge/delivery survey summary (KC-334) will be collected electronically and by mail, and the rate schedule (KC-337) will be collected electronically and by mail.

For the following estimated total annual burden on respondents, the formula used to calculate the total burden hours is the estimated average time per responses multiplied by the estimated total annual of responses.

Estimate of Burden: Public reporting burden for this collection of information is estimated to average 29 minutes per response.

Respondents: Business and other for- profit organizations.

Estimated Number of Respondents: 41.

Estimated Total Annual Responses: 485.

Estimated Number of Responses per Respondent: 11.83.

Estimated Total Annual Burden on Respondents: 234 hours.

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Erin Morris,
Associate Administrator, Agricultural Marketing Service.

[FR Doc. 2023-08595 Filed 4-21-23; 8:45 am]

BILLING CODE P